POSTAL REGULATORY COMMISSION

[Docket Nos. MC2025-613 and K2025-612; MC2025-614 and K2025-613; MC2025-615 and K2025-614; MC2025-616 and K2025-615; MC2025-617 and K2025-616; MC2025-618 and K2025-617; MC2025-619 and K2025-618; MC2025-620 and K2025-619; MC2025-621 and K2025-620; MC2025-622 and K2025-621; MC2025-623 and K2025-622; MC2025-624 and K2025-623; MC2025-629 and K2025-628; MC2025-630 and K2025-629; MC2025-631 and K2025-630; MC2025-632 and K2025-631; MC2025-633 and K2025-632; MC2025-634 and K2025-633; MC2025-635 and K2025-634; MC2025-636 and K2025-635; MC2025-637 and K2025-636; MC2025-638 and K2025-637; MC2025-639 and K2025-638; MC2025-640 and K2025-639]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: December 13, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Public Proceeding(s)

III. Summary Proceeding(s)

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: MC2025-613 and K2025-612; Filing Title: USPS Request to Add Priority Mail Express, Priority Mail & USPS Ground Advantage Contract 887 to the Competitive Product List and Notice of Filing Materials Under Seal; Filing Acceptance Date: December 5, 2024; Filing Authority: 39 U.S.C. 3642, 39 CFR 3035.105, and 39 CFR 3041.310; Public Representative: Gregory Stanton; Comments Due: December 13, 2024.

2. Docket No(s).: MC2025-614 and K2025-613; Filing Title: USPS Request to Add Priority Mail Express, Priority Mail & USPS Ground Advantage Contract 888 to the Competitive Product List and Notice of Filing Materials Under Seal; Filing Acceptance Date: December 5, 2024; Filing Authority: 39 U.S.C. 3642, 39 CFR 3035.105, and 39 CFR 3041.310; Public Representative: Gregory Stanton; Comments Due: December 13, 2024.

3. Docket No(s).: MC2025-615 and K2025-614; Filing Title: USPS Request to Add Priority Mail Express, Priority Mail & USPS Ground Advantage Contract 889 to the Competitive Product List and Notice of Filing Materials Under Seal; Filing Acceptance Date: December 5, 2024; Filing Authority: 39 U.S.C. 3642, 39 CFR 3035.105, and 39 CFR 3041.310; Public Representative: Gregory Stanton; Comments Due: December 13, 2024.

4. Docket No(s).: MC2025-616 and K2025-615; Filing Title: USPS Request to Add Priority Mail Express, Priority Mail & USPS Ground Advantage Contract 890 to the Competitive Product List and Notice of Filing Materials Under Seal; Filing Acceptance Date: December 5, 2024; Filing Authority: 39 U.S.C. 3642, 39 CFR 3035.105, and 39 CFR 3041.310; Public Representative: Maxine Bradley; Comments Due: December 13, 2024.

5. Docket No(s).: MC2025-617 and K2025-616; Filing Title: USPS Request to Add Priority Mail Express, Priority Mail & USPS Ground Advantage Contract 891 to the Competitive Product List and Notice of Filing Materials Under Seal; Filing Acceptance Date: December 5, 2024; Filing Authority: 39 U.S.C. 3642, 39 CFR 3035.105, and 39 CFR 3041.310; Public Representative: Gregory Stanton; Comments Due: December 13, 2024.

6. Docket No(s).: MC2025-618 and K2025-617; Filing Title: USPS Request to Add Priority Mail Express, Priority Mail & USPS Ground Advantage Contract 892 to the Competitive Product List and Notice of Filing Materials Under Seal; Filing Acceptance Date: December 5, 2024; Filing Authority: 39 U.S.C. 3642, 39 CFR 3035.105, and 39 CFR 3041.310; Public Representative: Elsie Lee-Robbins; Comments Due: December 13, 2024.

7. Docket No(s).: MC2025-619 and K2025-618; Filing Title: USPS Request to Add Priority Mail Express, Priority Mail & USPS Ground Advantage Contract 893 to the Competitive Product List and Notice of Filing Materials Under Seal; Filing Acceptance Date: December 5, 2024; Filing Authority: 39 U.S.C. 3642, 39 CFR 3035.105, and 39 CFR 3041.310; Public Representative: Elsie Lee-Robbins; Comments Due: December 13, 2024.

8. Docket No(s).: MC2025-620 and K2025-619; Filing Title: USPS Request to Add Priority Mail Express, Priority Mail & USPS Ground Advantage Contract 894 to the Competitive Product List and Notice of Filing Materials Under Seal; Filing Acceptance Date: December 5, 2024; Filing Authority: 39 U.S.C. 3642, 39 CFR 3035.105, and 39 CFR 3041.310; Public Representative: Elsie Lee-Robbins; Comments Due: December 13, 2024.

9. Docket No(s).: MC2025-621 and K2025-620; Filing Title: USPS Request to Add Priority Mail Express, Priority Mail & USPS Ground Advantage Contract 895 to the Competitive Product List and Notice of Filing Materials Under Seal; Filing Acceptance Date: December 5, 2024; Filing Authority: 39 U.S.C. 3642, 39 CFR 3035.105, and 39 CFR 3041.310; Public Representative: Elsie Lee-Robbins; Comments Due: December 13, 2024.

10. Docket No(s).: MC2025-622 and K2025-621; Filing Title: USPS Request to Add Priority Mail Express, Priority Mail & USPS Ground Advantage Contract 896 to the Competitive Product List and Notice of Filing Materials Under Seal; Filing Acceptance Date: December 5, 2024; Filing Authority: 39 U.S.C. 3642, 39 CFR 3035.105, and 39 CFR 3041.310; Public Representative: Elsie Lee-Robbins; Comments Due: December 13, 2024.

11. Docket No(s).: MC2025-623 and K2025-622; Filing Title: USPS Request to Add Priority Mail Express, Priority Mail & USPS Ground Advantage Contract 897 to the Competitive Product List and Notice of Filing Materials Under Seal; Filing Acceptance Date: December 5, 2024; Filing Authority: 39 U.S.C. 3642, 39 CFR 3035.105, and 39 CFR 3041.310; Public Representative: Maxine Bradley; Comments Due: December 13, 2024.

12. Docket No(s).: MC2025-624 and K2025-623; Filing Title: USPS Request to Add Priority Mail Express, Priority Mail & USPS Ground Advantage Contract 898 to the Competitive Product List and Notice of Filing Materials Under Seal; Filing Acceptance Date: December 5, 2024; Filing Authority: 39 U.S.C. 3642, 39 CFR 3035.105, and 39 CFR 3041.310; Public Representative: Maxine Bradley; Comments Due: December 13, 2024.

13. Docket No(s).: MC2025-629 and K2025-628; Filing Title: USPS Request to Add Priority Mail Express, Priority Mail & USPS Ground Advantage Contract 903 to the Competitive Product List and Notice of Filing Materials Under Seal; Filing Acceptance Date: December 5, 2024; Filing Authority: 39 U.S.C. 3642, 39 CFR 3035.105, and 39 CFR 3041.310; Public Representative: Maxine Bradley; Comments Due: December 13, 2024.

14. Docket No(s).: MC2025-630 and K2025-629; Filing Title: USPS Request to Add Priority Mail Express, Priority Mail & USPS Ground Advantage Contract 904 to the Competitive Product List and Notice of Filing Materials Under Seal; Filing Acceptance Date: December 5, 2024; Filing Authority: 39 U.S.C. 3642, 39 CFR 3035.105, and 39 CFR 3041.310; Public Representative: Maxine Bradley; Comments Due: December 13, 2024.

15. Docket No(s).: MC2025-631 and K2025-630; Filing Title: USPS Request to Add Priority Mail Express, Priority Mail & USPS Ground Advantage Contract 905 to the Competitive Product List and Notice of Filing Materials Under Seal; Filing Acceptance Date: December 5, 2024; Filing Authority: 39 U.S.C. 3642, 39 CFR 3035.105, and 39 CFR 3041.310; Public Representative: Maxine Bradley; Comments Due: December 13, 2024.

16. Docket No(s).: MC2025-632 and K2025-631; Filing Title: USPS Request to Add Priority Mail Express, Priority Mail & USPS Ground Advantage Contract 906 to the Competitive Product List and Notice of Filing Materials Under Seal; Filing Acceptance Date: December 5, 2024; Filing Authority: 39 U.S.C. 3642, 39 CFR 3035.105, and 39 CFR 3041.310; Public Representative: Elsie Lee-Robbins; Comments Due: December 13, 2024.

17. Docket No(s).: MC2025-633 and K2025-632; Filing Title: USPS Request to Add Priority Mail Express, Priority Mail & USPS Ground Advantage Contract 907 to the Competitive Product List and Notice of Filing Materials Under Seal; Filing Acceptance Date: December 5, 2024; Filing Authority: 39 U.S.C. 3642, 39 CFR 3035.105, and 39 CFR 3041.310; Public Representative: Elsie Lee-Robbins; Comments Due: December 13, 2024.

18. Docket No(s).: MC2025-634 and K2025-633; Filing Title: USPS Request to Add Priority Mail & USPS Ground Advantage Contract 505 to the Competitive Product List and Notice of Filing Materials Under Seal; Filing Acceptance Date: December 5, 2024; Filing Authority: 39 U.S.C. 3642, 39 CFR 3035.105, and 39 CFR 3041.310; Public Representative: Christopher Mohr; Comments Due: December 13, 2024.

19. Docket No(s).: MC2025-635 and K2025-634; Filing Title: USPS Request to Add Priority Mail & USPS Ground Advantage Contract 506 to the Competitive Product List and Notice of Filing Materials Under Seal; Filing Acceptance Date: December 5, 2024; Filing Authority: 39 U.S.C. 3642, 39 CFR 3035.105, and 39 CFR 3041.310; Public Representative: Jennaca Upperman; Comments Due: December 13, 2024.

20. Docket No(s).: MC2025-636 and K2025-635; Filing Title: USPS Request to Add Priority Mail & USPS Ground Advantage Contract 507 to the Competitive Product List and Notice of Filing Materials Under Seal; Filing Acceptance Date: December 5, 2024; Filing Authority: 39 U.S.C. 3642, 39 CFR 3035.105, and 39 CFR 3041.310; Public Representative: Jennaca Upperman; Comments Due: December 13, 2024.

21. Docket No(s).: MC2025-637 and K2025-636; Filing Title: USPS Request to Add Priority Mail Express, Priority Mail & USPS Ground Advantage Contract 908 to the Competitive Product List and Notice of Filing Materials Under Seal; Filing Acceptance Date: December 5, 2024; Filing Authority: 39 U.S.C. 3642, 39 CFR 3035.105, and 39 CFR 3041.310; Public Representative: Christopher Mohr; Comments Due: December 13, 2024.

22. Docket No(s).: MC2025-638 and K2025-637; Filing Title: USPS Request to Add Priority Mail & USPS Ground Advantage Contract 508 to the Competitive Product List and Notice of Filing Materials Under Seal; Filing Acceptance Date: December 5, 2024; Filing Authority: 39 U.S.C. 3642, 39 CFR 3035.105, and 39 CFR 3041.310; Public Representative: Jennaca Upperman; Comments Due: December 13, 2024.

23. Docket No(s).: MC2025-639 and K2025-638; Filing Title: USPS Request to Add Priority Mail Express, Priority Mail & USPS Ground Advantage Contract 909 to the Competitive Product List and Notice of Filing Materials Under Seal; Filing Acceptance Date: December 5, 2024; Filing Authority: 39 U.S.C. 3642, 39 CFR 3035.105, and 39 CFR 3041.310; Public Representative: Arif Hafiz; Comments Due: December 13, 2024.

24. Docket No(s).: MC2025-640 and K2025-639; Filing Title: USPS Request to Add Priority Mail Express, Priority Mail & USPS Ground Advantage Contract 910 to the Competitive Product List and Notice of Filing Materials Under Seal; Filing Acceptance Date: December 5, 2024; Filing Authority: 39 U.S.C. 3642, 39 CFR 3035.105, and 39 CFR 3041.310; Public Representative: Arif Hafiz; Comments Due: December 13, 2024.

III. Summary Proceeding(s)

None. See Section II for public proceedings.

This Notice will be published in the Federal Register.

Erica A. Barker,
Secretary.

[FR Doc. 2024-29156 Filed 12-11-24; 8:45 am]

BILLING CODE 7710-FW-P